DEPARTMENT OF HEALTH AND HUMAN SERVICES

Health Resources and Services Administration

Amendment to a Notice of Availability of Funds Announced in the HRSA Preview—Primary Health Care Programs: Community and Migrant Health Centers; CFDA Number 93.224; HRSA-04-030

AGENCY: Health Resources and Services Administration, HHS.

ACTION: Amendment to a notice of availability of funds.

SUMMARY: A notice of availability of funds announced in the HRSA Preview, “Primary Health Care Programs: Community and Migrant Health Centers HRSA-04-030,” was published in the Federal Register on September 4, 2003 (Volume 68, Number 171), FR Doc. 03-22427. On page 52651, under announcement HRSA-04-030, the due date for the Danville, Virginia, service area is extended to May 3, 2004. There are no other changes.

FOR FURTHER INFORMATION CONTACT: Jack Egan, HRSA/Bureau of Primary Health Care; jegan@hrsa.gov.

SUPPLEMENTARY INFORMATION: Program Information Notice 2004-01, “Fiscal Year 2004 Application Instructions for Service Area Competition Funding for the Consolidated Health Center Program,” and application guidance is available at the Bureau of Primary Health Care Web page: http://www.bphc.hrsa.gov/pinspals/.

Dated: March 2, 2004.
Elizabeth M. Duke,
Administrator.

[FR Doc. 04-5303 Filed 3-9-04; 8:45 am]

BILLING CODE 4165-15-P